OFFICE OF SCIENCE AND TECHNOLOGY POLICY

Meeting of the President's Council of Advisors on Science and Technology

ACTION: Notice of meeting.

SUMMARY: This notice sets forth the schedule and summary agenda for a meeting of the President's Council of Advisors on Science and Technology (PCAST), and describes the functions of the Council. Notice of this meeting is required under the Federal Advisory Committee Act (FACA).

DATES and place: March 30, 2004, Washington, DC. The meeting will be held in the Crystal Ballroom of the St. Regis Hotel, 923 16th Street, NW., Washington, DC 20006.

Type of Meeting: Open. Further details on the agenda will be posted on the PCAST Web site at: http://www.ostp.gov/PCAST/pcast.html.

Proposed Schedule and Agenda: The President's Council of Advisors on Science and Technology is scheduled to meet in open session on Tuesday, March 30, 2004, at approximately 9 a.m. The PCAST is tentatively scheduled to: (1) Discuss a draft report from its workforce-education subcommittee; and (2) continue its discussion of nanotechnology and its review of the federal National Nanotechnology Initiative through presentations and discussions concerning the management of the potential environmental and health effects of nanoscale materials. This session will end at approximately 5 p.m. Additional information on the agenda will be posted at the PCAST Web site at: http://www.ostp.gov/PCAST/pcast.html.

Public Comments: There will be time allocated for the public to speak on the above agenda items. This public comment time is designed for substantive commentary on PCAST's work topics, not for business marketing purposes. Please submit a request for the opportunity to make a public comment five (5) days in advance of the meeting. The time for public comments will be limited to no more than 5 minutes per person. Written comments are also welcome at any time following the meeting. Please notify Stan Sokul, PCAST Executive Director, at (202) 456-6070, or fax your request/comments to (202) 456-6021.

FOR FURTHER INFORMATION CONTACT: For information regarding time, place and agenda, please call Stan Sokul at (202) 456-6070, prior to 3 p.m. on Monday, March 29, 2004. Information will also be available at the PCAST Web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Stanley S. Sokul,
Executive Director, PCAST, and Counsel, Office of Science and Technology Policy.

[FR Doc. 04-6051 Filed 3-16-04; 8:45 am]

BILLING CODE 3170-01-M